NATIONAL SCIENCE FOUNDATION

Special Emphasis Panel in Elementary, Secondary and Informal Education; Notice of Meeting

In accordance with the Federal Advisory Committee Act (Pub. L. 92-463, as amended), The National Science Foundation announces the following meeting:

Name: Special Emphasis Panel in Elementary, Secondary and Informal Education (#59).

Date/Time: December 7, 2000; 4:30 pm to 9 pm. December 8, 2000; 8 am to 6 pm. December 9, 2000; 8 am to 3 pm.

Place: National Science Foundation, 4201 Wilson Boulevard, Arlington, VA.

Type of Meeting: Closed.

Contact Person: Dr. Susan Snyder, Program Director, Division of Elementary, Secondary and Informal Education, The National Science Foundation, Room 885, 4201 Wilson Boulevard, Arlington, VA, 22230 (703) 292-8620.

Purpose of Meeting: To provide advice and recommendations concerning proposals submitted to the Teacher Enhancement and Instructional Materials Development Program for financial support.

Agenda: To review and evaluate proposals as part of the selection process for awards.

Reason for Closing: The proposals being reviewed include information of a proprietary or confidential nature including technical information, financial data such as salaries, and personal information concerning individuals associated with the proposals. These matters are exempt under 5 U.S.C. 552b(c), (4) and (6) of the Government in the Sunshine Act.

Dated: October 27, 2000.
Karen J. York,
Committee Management Officer.

[FR Doc. 00-28409 Filed 11-3-00; 8:45 am]

BILLING CODE 7555-1-M.